DEPARTMENT OF COMMERCE

National Oceanic and Atmospheric Administration

50 CFR Part 600

[I.D. 090600B]

Magnuson-Stevens Act Provisions; General Provisions for Domestic Fisheries; Applications for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator), has made a preliminary determination to issue EFPs to conduct experimental fishing operations otherwise restricted by the regulations governing the fisheries of the Northeastern United States. The Northeast Region has received a request to allow several purse seine vessels to fish in Closed Area I. Therefore, this document invites comments on the issuance of EFPs to conduct experimental fishing with a maximum of 5 commercial fishing vessels. The EFPs would allow tuna purse seine vessels to fish for giant bluefin tuna in Northeast Multispecies Closed Area I, where purse seine gear is normally prohibited. This exempted fishery would allow NMFS and the New England Fishery Management Council to evaluate the feasibility of allowing this type of gear in the closed area as an exempted gear on a permanent basis.

DATES: Comments on this document must be received by September 12, 2000.

ADDRESSES: Written comments should be sent to Patricia A. Kurkul, Regional Administrator, NMFS, Northeast Regional Office, 1 Blackburn Drive, Gloucester, MA 01930. Mark the outside of the envelope “Comments on Proposed EFP Proposal.” Comments may also be sent via facsimile (fax) to (978) 281-9135. Comments will not be accepted if submitted via e-mail or the Internet.

FOR FURTHER INFORMATION CONTACT: Paul H. Jones or Peter W. Christopher, Fishery Policy Analysts, (978) 281-9273 and (978) 281-9288.

SUPPLEMENTARY INFORMATION:

Background

The Georges Bank and Southern New England Southern New England (SNE) multispecies closed areas were established under the Northeast Multispecies FMP to provide protection to concentrations of multispecies, particularly for cod, haddock and yellowtail flounder. Consequently, all fishing in these closed areas was prohibited, with few exceptions. The exceptions were limited to fisheries that are known to have a very low occurrence of multispecies bycatch. For example, pelagic midwater trawl was determined to have a negligible catch of multispecies because the gear fishes well off the ocean floor; therefore, it is an allowed gear in the Georges Bank and SNE closed areas. Purse seine gear is a pelagic gear that is typically used to target species such as herring, mackerel, and tuna concentrated at or near the surface of the ocean. It is not designed to fish for species at or near the ocean floor and is typically considered to have very little interaction with bottom dwelling species. However, observer data from the tuna purse seine fishery from 1996, the last year this fishery carried observers, do document a small catch of groundfish and bottom-dwelling organisms.

Proposed EFP

The proposed EFP would exempt purse seine vessels fishing for giant bluefin tuna under 50 CFR part 635 from the gear restrictions of Closed Area I, as described at 50 CFR 648.81(a). There would be no more than 5 vessels fishing individual quotas, which may be taken through the end of the fishing year, but are usually taken by the middle of October. Because these fish are migrating, it is expected that the fishery would take place within the closed area for only a few weeks. If selected, vessels would be required to carry observers, if requested by NMFS, who would document catch of all species, interactions of the net with the bottom, and any incidental take of marine mammals and endangered species. After any sampling requested by an observer, all multispecies would be required to be discarded.

EFPs would be issued to the participating vessels in accordance with the conditions stated therein, and will exemptvessels from the restrictions of Closed Area I of the Northeast Multispecies Fishery Management Plan.

Authority: 16 U.S.C. 1801 et seq.

Dated: September 6, 2000.
William T. Hogarth,
Deputy Assistant Administrator for Fisheries, National Marine Marine Fisheries Service.

[FR Doc. 00-23285 Filed 9-6-00; 4:46 pm]

BILLING CODE 3510-22-S